DEPARTMENT OF LABOR

Employment and Training Administration

[TA-W-52,324]

Sierra Pine, Ltd, Medite Division, Medford, OR; Notice of Termination of Investigation

Pursuant to Section 221 of the Trade Act of 1974, an investigation was initiated on July 16, 2003 in response to a petition filed by the Association of Western Pulp and Paper Workers (AWPPW) on behalf of workers at Sierra Pine, LTD, Medite Division, Medford, Oregon.

The petitioner requested that the petition be withdrawn. Consequently, further investigation in this case would serve no purpose, and the investigation has been terminated.

Signed at Washington, DC, this 11th day of August, 2003.
Linda Poole,
Certifying Officer, Division of Trade Adjustment Assistance.

[FR Doc. 03-22273 Filed 8-29-03; 8:45 am]

BILLING CODE 4510-30-P